SECURITIES AND EXCHANGE COMMISSION

[SEC File No. 270-029, OMB Control No. 3235-0037]

Submission for OMB Review; Comment Request; Extension: Rule 17f-1(c) and Form X-17F-1A

Upon Written Request, Copies Available From: Securities and Exchange Commission, Office of FOIA Services, 100 F Street NE, Washington, DC 20549-2736.

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 17f-1(c) (17 CFR 240.17f-1(c) and Form X-17F-1A (17 CFR 249.100) under the Securities Exchange Act of 1934 (15 U.S.C. 78a et seq.).

Rule 17f-1(c) requires approximately 9,500 entities in the securities industry to report lost, stolen, missing, or counterfeit securities certificates to the Commission or its designee, to a registered transfer agent for the issue, and, when criminal activity is suspected, to the Federal Bureau of Investigation. Such entities are required to use Form X-17F-1A to make such reports. Filing these reports fulfills a statutory requirement that reporting institutions report and inquire about missing, lost, counterfeit, or stolen securities. Since these reports are compiled in a central database, the rule facilitates reporting institutions to access the database that stores information for the Lost and Stolen Securities Program (“Program”).

We estimate that the total reporting burden for Regulation 17f-1(c), as adopted, for all respondents is approximately 2,937.5 hours. These burdens consist of a one-time burden in connection with Accenture Federal Services LLC (“Accenture”) becoming the new Program operator of approximately 2,000 hours for set-up, and annual burdens thereafter of approximately 25 hours for maintenance and 287.5 hours for reporting. [2,000 + 3(25 + 287.5) = 2,937.5 hours].

• The Commission estimates that approximately 50 reporting institutions will be subject to this one-time burden, which corresponds to 40 hours for each of the applicable reporting institutions. Further, the Commission estimates that updates in the applicable reporting institutions' systems to maintain this connectivity will impose an aggregate ongoing annualized burden of 25 burden hours, which corresponds to 30 minutes for each of the applicable reporting institutions. Accordingly, this estimated burden to establish and maintain connectivity with Accenture over three years results in an aggregate burden of 691.67 hours per year or 13.83 hours per applicable reporting institution per year. [(50 Respondents × 1 Responses over 3 years) = 50 × (40 hour) = 2,000 hours/3 years = 666.67 hours per year; (50 Respondents × 1 Responses) = 50 × (.5 hours) = 25 hours; 666.67 hours + 25 hours = 691.67 hours; 691.67 hours/50 Respondents = 13.83 hours/Respondent].

• In addition, we estimate that approximately 115 reporting institutions will submit a report on average 30 times each year. The staff estimates that the average amount of time necessary for each reporting institution to comply with the Rule 17f-1(c) and Form X-17F-1A is five minutes. As a result, the total hourly burden for the periodic reporting burden under Rule 17f-1(c) is approximately 287.5 hours [(115 Respondents × 30 Responses) × (5 minutes/60 minutes/hour)].

An agency may not conduct or sponsor, and a person is not required to respond to, a collection of information under the PRA unless it displays a currently valid OMB control number.

The 30-day public comment period for this information collection request opens on December 3, 2024 and ends on January 2, 2025. View the full information request and submit comments at https://www.reginfo.gov/public/do/PRAViewICR?ref_nbr=202409-3235-021 or email comments to MBX.OMB.OIRA.SEC_desk_officer@omb.eop.gov.

Dated: November 26, 2024.
Sherry R. Haywood,
Assistant Secretary.

[FR Doc. 2024-28223 Filed 11-29-24; 8:45 am]

BILLING CODE 8011-01-P